SMALL BUSINESS ADMINISTRATION

Region V Regulatory Fairness Board; Public Hearing

The Small Business Administration Region V Regulatory Fairness Board and the SBA Office of the National Ombudsman, will hold a Public Hearing Tuesday, December 4, 2001 at 8:30 AM at Indiana World War Memorial, 431 North Meridian Street, Indianapolis, IN 46204, Phone (317) 232-7615, Fax (317) 233-4285, to receive comments and testimony from small business owners and representatives of trade associations concerning the regulatory enforcement and compliance environment.

Anyone wishing to attend or to make a presentation must contact Mr. Darrell J. Mowery, in writing by letter or fax no later than November 27, 2001, in order to be put on the agenda. Darrell J. Mowery, Public Affairs Specialist, SBA Indiana District Office, 429 North Pennsylvania Street, Suite 100, Indianapolis, IN 46204-1873, Phone (317) 226-7272 x 214, fax (202) 481-0960, E-mail: darrell.mowery@sba.gov.

Dated: November 14, 2001.
Michael L. Barrera,
National Ombudsman.

[FR Doc. 01-29296 Filed 11-23-01; 8:45 am]

BILLING CODE 8025-01-P